DEPARTMENT OF LABOR

Employment and Training Administration

Proposed Collection; Comment Request

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of data collection using the ETA Form 9023, Trade Adjustment Assistance (TAA)/North American Free Trade Agreement Transitional Adjustment Assistance (NAFTA-TAA) Program Financial Status Report/Request for Funds (1205-0275, expires 4/31/2003). Efforts are currently underway to transition financial reporting on the TAA and NAFTA-TAA programs to the Standard Form 269. This transition will make financial reporting uniform across all ETA programs. It should be noted that the ETA-9023 will continue to be used by States to request supplemental funding for both the TAA and NAFTA-TAA programs.

A copy of the proposed information collection request (ICR) can be obtained by contacting the office listed below in the addressee section of this notice.

DATES: Written comments must be submitted to the office listed in the addressee section below on or before June 9, 2003.

ADDRESSEE: Edward A. Tomchick, Director, Division of Trade Adjustment Assistance, Room C-5311, 200 Constitution Ave., NW., Washington, DC 20210. Phone (202) 693-3577 (this is not a toll-free number), fax (202) 693-3584, e-mail etomchick@doleta.gov.

SUPPLEMENTARY INFORMATION:

I. Background

The Trade Adjustment Assistance Reform Act of 2002 consolidated the Trade Adjustment Assistance (TAA) and North American Free Trade Agreement—Transitional Adjustment Assistance (NAFTA-TAA) programs into one program for trade affected workers. However; earlier amendments to the Trade Act of 1974, contained in the Omnibus Trade and Competitiveness Act (OTCA) of 1988 (Pub. L. 100-418) and Title 5 of the North American Free Trade Agreement Implementation Act (Pub. L. 103-182) of 1993 made some significant changes and additions to the way worker adjustment assistance programs for trade-affected workers are funded and administered. These changes made enrollment in training an entitlement for workers adversely affected by imports (TAA program) or by imports from Canada or Mexico (NAFTA-TAA program). The TAA and NAFTA-TAA trade programs provide monies for trade readjustment allowances, job search allowances, job relocation allowances and training. In order for workers to receive trade readjustment allowances for the maximum amount of time permitted, they must be enrolled in a training program approved by the Secretary of Labor (section 423 of OTCA) for the TAA program and (section 250 of the NAFTA Implementation Act) for the NAFTA-TAA program. Although training becomes an entitlement under both programs if certain regulatory criteria are met, the OTCA imposed a training cap in section 236 of the TAA program and under subchapter D for the NAFTA-TAA program. Under the Trade Adjustment Assistance Reform Act of 2002, the statutory cap for training dollars is $220 million. The purpose of the collection of this information on the form ETA-9023 is to be able to monitor expenditures for training and related activities for both programs to ensure that the statutory ceiling is not exceeded. Tracking of expenditures for the NAFTA-TAA program will occur until all funds have been expended or the State submits a final report—at which time the NAFTA-TAA program will be phased out in accordance with the Trade Adjustment Assistance Reform Act of 2002. Additionally, the Secretary of Labor is responsible for ensuring that resources are equitably distributed to the States. This form enables the ETA to evaluate a State's need for resources and to distribute resources among States as necessary.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

The ETA-9023 has been successfully utilized by the ETA and the States with only minor modifications since Fiscal Year 1989. The Federal Register Notice requests an extension of the ETA-9023 for both the reformed TAA program and the NAFTA-TAA program—the latter only until monies for it expire. Overall, States have done a commendable job in completing the form with relatively minor problems or questions raised by the States on the form. The ETA-9023 has been extremely important to the ETA over the last several years because the entire funding available, under the statutory cap for the Trade program for training was allocated to the States. The ETA-9023 report was critical in allowing ETA to be able to distribute resources equitably among States so the maximum number of eligible participants seeking training could obtain it.

Type of Review: Extension.

Agency: Employment and Training Administration.

Title: Trade Adjustment Assistance/NAFTA Financial Status Report/Request for Funds.

OMB Number: 1205-0275.

Agency Number: ETA-9023.

Affected Public: State Governments, State Workforce Agencies.

Cite/Reference | Total respondents/responses | Frequency | Total responses | Average time per response (hours) | Total requested burden
TAA Reporting | 50 | 5 | 250 | 2 | 500
NAFTA Reporting | 50 | 5 | 250 | 2 | 500
Totals |  |  | 500 |  | 1,000

The total costs is $26.00 x 100 hours = $26,000. Comments submitted in response to this comment request will be summarized and/or included in the request for Office of Management and Budget approval of the information collection request; they will also become a matter of public record.

Dated: April 4, 2003.
Shirley Smith,
Administrator, Employment and Training Administration.

[FR Doc. 03-8842 Filed 4-9-03; 8:45 am]

BILLING CODE 4510-30-P